DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Cook Inlet Beluga Whale Protection Pretest Economic Survey.

OMB Control Number: None.

Form Number(s): NA.

Type of Request: Regular submission (request for review of a new information collection).

Number of Respondents: 298.

Average Hours per Response: Full survey, 25 minutes. Follow-up telephone call with short interview, 5 minutes.

Burden Hours: 102.

Needs and Uses: The population of Cook Inlet beluga whales found in the Cook Inlet of Alaska is one of five distinct population segments in United States (U.S.) waters. It was listed as endangered under the Endangered Species Act on October 22, 2008 (73 FR 62919). The public benefits associated with the results of protection actions on the Cook Inlet beluga whale, such as population increases, are primarily the result of the non-consumptive value people attribute to such protection (e.g., active use values associated with being able to view beluga whales and passive use values unrelated to direct human use). Little is known about these values, yet such information is needed for decision makers to more fully understand the trade-offs involved in choosing among potential protection alternatives and to complement other information available about the costs, benefits, and impacts of protection alternatives.

The National Marine Fisheries Service plans to conduct a pilot survey to test a survey instrument that will be used to collect data for measuring the economic benefits the public receives for providing additional protection, beyond current levels, to the Cook Inlet beluga whale. These preferences are currently not known, but are needed to assist in the evaluation of alternative measures to further protect and recover the species' population, such as in the evaluation of critical habitat designations. The pilot survey consists of conducting a small-scale mail-telephone survey of U.S. households that will collect information needed to evaluate the survey instrument and implementation procedures.

Affected Public: Individuals or households.

Frequency: One time.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: September 24, 2010.
Gwellnar Banks,
Management Analyst, Office of the Chief Information Officer.

[FR Doc. 2010-24507 Filed 9-29-10; 8:45 am]

BILLING CODE 3510-22-P